INTERNATIONAL TRADE COMMISSION

[Investigation No. 332-527 ]

Probable Economic Effect of Providing Duty-Free, Quota-Free Treatment for Imports From Least-Developed Countries, 2012 Report; Institution of Investigation

AGENCY: United States International Trade Commission.

ACTION: Notice.

SUMMARY: Following receipt of a request dated June 16, 2011 from the United States Trade Representative (USTR), the U.S. International Trade Commission (Commission) instituted investigation No. 332-527, Probable Economic Effect of Providing Duty-Free, Quota-Free Treatment for Imports from Least-Developed Countries, 2012 Report, under section 332(g) of the Tariff Act of 1930 (19 U.S.C. 1332(g)), for the purpose of providing a report that contains the Commission's advice as to the probable economic effect of providing duty-free, quota-free treatment (DFQF) for imports of least-developed countries (LDCs) as outlined in the decision on proposal 36 in Annex F of the Hong Kong Ministerial Declaration on (i) Industries in the United States producing like or directly competitive products, (ii) consumers, (iii) imports under specified U.S. preference programs, and (iv) imports from U.S. free trade agreement (FTA) partner countries.

DATES: September 16, 2011: Deadline for filing written submissions. February 16, 2012: Transmittal of Commission report to the USTR.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Project Leader Philip Stone, Office of Industries (202-205-3424 or philip.stone@usitc.gov), or Deputy Project Leader Heidi Colby-Oizumi, Office of Industries (202-205-3391 or heidi.colby@usitc.gov), for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his request letter the USTR noted that World Trade Organization (WTO) Members reached agreement at the WTO Ministerial Conference in Hong Kong in December 2005 to provide DFQF market access to products from the LDCs (as defined by the United Nations), and that the United States announced it would implement this initiative together with the results of the overall negotiations under the Doha Development Agenda (DDA). He also noted that his office in 2007 had requested and received such an analysis, and indicated that it would be useful to have an update of this analysis based on 2010 trade data.

As requested, the Commission, in providing its advice, will consider each article in chapters 1 through 97 of the Harmonized Tariff Schedule of the United States (HTS) for which U.S. tariffs or tariff-rate quotas remain, and preferential tariff treatment currently being provided to LDCs under the African Growth and Opportunity Act and the Caribbean Basin Initiative programs and that could be provided under the Generalized System of Preferences once Congress renews that program. As requested, the Commission will base its advice on the 2010 HTS nomenclature and trade and tariff rate data for that year, and will provide its advice at the 8-digit HTS level, or the lowest level of aggregation feasible. The Commission will take into account the 2007 advice, and any appropriate comparisons between the data. Additionally, the Commission will, to the extent possible, evaluate the articles in chapters 50 through 63 of the HTS to identify (i) Products not currently imported from LDCs for which imports could potentially increase following the granting of DFQF access and (ii) the possible effect of trade diversion on U.S. imports from all countries with which the United States has FTAs or preferential trade programs, including countries to which the United States is a major exporter of yarns and fabrics.

The USTR asked that the Commission provide its report no later than February 16, 2012. He also indicated that the Commission's report should be classified and marked accordingly, and that he considers the Commission's report to be an inter-agency memorandum that will contain pre-decisional advice and be subject to the deliberative process privilege.

Written Submissions: No public hearing is planned. Interested parties are invited to submit written submissions concerning this investigation. All written submissions should be addressed to the Secretary, and should be received not later than 5:15 p.m., September 16, 2011. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties. The Commission may include some or all of the confidential business information submitted in the course of the investigation in the report it sends to the USTR.

Issued: July 8, 2011.
By order of the Commission.
James R. Holbein,
Secretary to the Commission.

[FR Doc. 2011-17575 Filed 7-12-11; 8:45 am]

BILLING CODE 7020-02-P